DEPARTMENT OF TRANSPORTATION

Federal Transit Administration

FY 2010 Discretionary Livability Funding Opportunity: Alternatives Analysis Program

AGENCY: Federal Transit Administration (FTA), DOT.

ACTION: Notice of Availability of FTA Alternatives Analysis Funds: Solicitation of Project Proposals.

SUMMARY: The Federal Transit Administration (FTA) announces the availability of up to $25.7 million in discretionary Fiscal Year (FY) 2009 and 2010 funds under the Alternatives Analysis Program (49 U.S.C. 5339) authorized by the Safe, Accountable, Flexible, Efficient, Transportation Equity Act: A Legacy For Users (SAFETEA-LU), Public Law 109-59, August 10, 2005. Discretionary program funds will be distributed in accordance with the mission of this program and in support of the Department of Transportation's Livability Initiative.

This announcement is available on the FTA Web site at: http://www.fta.dot.gov. FTA will announce final selections on the Web site and in the Federal Register. A synopsis of this funding opportunity will be posted in the FIND module of the government-wide electronic grants Web site at http://www.grants.gov. All proposals must be submitted to FTA electronically through the GRANTS.GOVAPPLY function. Applicants will receive two confirmation e-mails. The first will confirm that the application was received and a second will confirm within 24-48 hours whether the application was validated or rejected by the system. Additional information on submitting proposals through the GRANTS.GOV Web site is provided later in this announcement.

DATES: Complete proposals must be submitted electronically through the GRANTS.GOV Web site by July 12, 2010.

To apply for funding through GRANTS.GOV, applicants must be properly registered. Complete instructions on how to register and submit proposals can be found at www.GRANTS.GOV. If interested parties experience difficulties at any point during the registration or application process, please call the GRANTS.GOV Customer Support Hotline at 1-800-518-4726, Monday-Friday from 7 a.m. to 9 p.m. EST.

FOR FURTHER INFORMATION CONTACT: For general program information, contact Kenneth Cervenka, Alternatives Analysis Program, Office of Planning and Environment, by phone at (202) 493-0512 or by e-mail at Kenneth.Cervenka@dot.gov. A TDD is available at 1-800-877-8339 (TDD/FIRS).

SUPPLEMENTARY INFORMATION:

Table of Contents

Alternatives Analysis Program

I. Program Purpose

II. Policy Priority—DOT Livability Initiative

III. Eligible Applicants

IV. Eligible Projects

V. Cost Sharing and Matching

VI. Application Content

VII. Evaluation Criteria

VIII. Technical Assistance and Other Program Information

Appendix A FTA Regional Offices

Alternatives Analysis Program

FTA has the authority to implement this program under SAFETEA-LU amendments to 49 U.S.C. 5339. The authorizing legislation allows for the Secretary of Transportation to make awards under this program at his discretion. FTA may allocate up to $25.7 million from available prior year and FY 2010 funds. These funds will be allocated for alternatives analysis activities selected from applications submitted in response to this notice.

I. Program Purpose

The purpose of the Alternatives Analysis program (49 U.S.C. 5339) is to assist potential sponsors of New Starts and Small Starts projects in the evaluation of all reasonable modal and multimodal alternatives and general alignment options to address transportation needs in a defined travel corridor.

As defined in 49 U.S.C. 5309(1)(a), an alternatives analysis is a study conducted as part of the transportation planning process which includes: (1) An assessment of a wide range of public transportation alternatives designed to address a transportation problem in a corridor or subarea; (2) [the development of] sufficient information to enable the Secretary to make the findings of project justification and local financial commitment required under Section 5309; (3) the selection of a locally preferred alternative; and (4) the adoption of the locally preferred alternative as part of the long-range transportation plan required under section 5303. Further information on conducting an alternatives analysis, including descriptions of the documents produced, can be found on FTA's Web site at http://www.fta.dot.gov/planning/newstarts/planning_environment_2396.html.

FTA will award discretionary funding available under Section 5339 to support a limited number of alternatives analyses, or technical work conducted as part of on-going alternatives analyses, to develop information for local decision-makers and for the Secretary regarding potential New Starts and Small Starts projects. These funds will be awarded for alternatives analysis activities selected from proposals submitted in response to this notice.

II. Policy Priority—DOT's Livability Initiative

FTA has long fostered livable communities and sustainable development through its various transit programs and activities. Public transportation supports the development of communities, providing effective and reliable transportation alternatives that increase access to jobs, recreation, health and social services, entertainment, educational opportunities, and other activities of daily life, while also improving mobility within and among these communities. Through various initiatives and legislative changes over the last fifteen years, FTA has allowed and encouraged projects that help integrate transit into a community through neighborhood improvements and enhancements to transit facilities or services; make improvements to areas adjacent to public transit facilities that may facilitate mobility needs of transit users; or support other infrastructure investments that enhance the use of transit and other alternative transportation options for the community.

On June 16, 2009, U.S. Department of Transportation (DOT) Secretary Ray LaHood, U.S. Department of Housing and Urban Development (HUD) Secretary Shaun Donovan, and U.S. Environmental Protection Agency (EPA) Administrator Lisa Jackson announced a new partnership to help American families in all communities—rural, suburban and urban—gain better access to affordable housing, more transportation options, and lower transportation costs. DOT, HUD, and EPA created this high-level interagency partnership to better coordinate federal transportation, environmental protection, and housing investments.

Through the Alternatives Analysis Program grants, FTA will support a limited number of alternatives analyses, or technical work conducted as part of proposed or on-going alternatives analyses, that would advance major transit investments that foster the six livability principles that serve as the foundation for the DOT-HUD-EPA Partnership for Sustainable Communities:

1. Provide more transportation choices

2. Promote equitable, affordable housing

3. Enhance economic competitiveness

4. Support existing communities

5. Coordinate policies and leverage investment

6. Value communities and neighborhoods

FTA will also consider geographic distribution in project selection.

III. Eligible Applicants

Section 5339 allows FTA to make grants and agreements, under criteria established by the Secretary, to States, authorities of the States, metropolitan planning organizations, and local governmental authorities to conduct alternatives analyses as defined by section 5309(a)(1).

IV. Eligible Projects

Alternatives analyses must be documented in the Unified Planning Work Program of the metropolitan planning organization for the area. Applicants must commit to begin the alternatives analysis study within 12 months of grant approval, unless the study is already underway. FTA will award available discretionary funding to eligible applicants to conduct an alternatives analysis or to support additional technical tasks in an alternatives analysis that will improve and expand the information available to decision-makers considering major transit improvements. FTA will consider proposals for all areas of technical work that can better develop information about the costs and benefits of potential major transit improvements, including those that might seek New Starts or Small Starts funding. FTA will give priority to technical work that would advance the study of alternatives that foster the six livability principles that serve as the foundation for the DOT-HUD-EPA Partnership for Sustainable Communities.

V. Cost Sharing and Matching

Studies or technical tasks selected for funding will receive up to 80 percent of the study cost. Awards remain available for 3 fiscal years, including the fiscal year in which the award is made. FTA will not approve requests for deferred local share under this program.

To promote collaboration on the development of major transit capital improvements and to demonstrate the value of partnerships across government agencies that serve various public service missions, FTA will give priority to proposals that are supported, financially or otherwise, by non-transportation public agencies that are pursuing similar objectives and are aligning their community development activities to increase the efficiency of Federal investments.

VI. Application Content

A. Brief Description of the Alternatives Analysis: Provide a paragraph about the study stating its goals and providing a brief description of the work plan. This section should also list all the partners involved in the study.

B. Applicant Information: Provide basic identifying information, including: (a) Applicant name, address, congressional district and FTA recipient ID number; (b) contact information (including contact name, title, address, e-mail, fax and phone number); (c) description of services provided by the agency, including areas served. Some of this information is included in the Standard Form 424. If this is a collaborative study, provide the contact information for the LEAD agency only.

C. Evaluation Criteria: Address each of the evaluation criteria separately, providing evidence that demonstrates the ways that the proposed study meets each criterion.

D. Work Plan and Budget for the On-going or Up-coming Alternatives Analysis: Provide the work plan and budget describing the nature, technical approaches, and cost of the alternatives analysis indicating what items would be funded with Section 5339 funds and what items would be funded by other sources.

E. The total application may not exceed 25 pages.

VII. Proposal Evaluation Criteria and Other Considerations

Awards under this notice could range from $50,000 to up to $2 million in Section 5339 funding. Eligible applicants must be able to begin the alternatives analysis within 12 months of the study being selected for funding if it is not already underway. Proposals will be evaluated as follows:

A. Demonstrated Need. Applicants must demonstrate need for these funds by identifying a substantial transportation problem in the study corridor and the degree to which the Alternatives Analysis technical work will develop information on the full range of costs and benefits of the major transit capital improvements being studied, including alternatives that may seek New Starts or Small Starts funding. To demonstrate need, applicants should provide the following information:

1. Description of Study Area, Transportation Problems, and Needs. Applicants should provide a statement of the transportation problem for which alternative solutions are to be analyzed. This information provides the context for performing the analysis and for identifying the measures against which alternatives strategies will be evaluated.

2. Description of Conceptual Alternatives. Applicants should provide a conceptual definition of a broad range of strategies for improving conditions in the corridor. For each alternative, the conceptual definition includes the preliminary identification of candidate general alignments and operating strategies, including general ideas of overall bus service levels, service standards, and guideway service options.

3. Preliminary Evaluation Criteria. Applicants should identify the preliminary evaluation criteria that specify, in part, the desired outcomes of an improvement, and provide the basis for comparing the performance of the various alternatives. This should include criteria which would inform decision-makers how an improvement would advance the six livability outcomes: provide more transportation choices; promote equitable, affordable housing; enhance economic competitiveness; support existing communities; coordinate policies and leverage investment; and value communities and neighborhoods.

B. The Technical Capacity of the Applicant to Carry Out the Proposed Work Successfully. Applicants must demonstrate the technical capacity to successfully undertake an analysis of alternatives. Demonstration of technical capacity may include such items as staffing levels and skill sets at the organization undertaking the alternatives analysis and any previous experience completing an alternatives analysis or corridor study.

C. Potential Impact on Decision-Making. Applicants must demonstrate the potential impact of the proposed tasks on decision-making. FTA will give priority to project sponsors that are coordinating the development of transit projects with relevant public housing agencies, or relevant public agencies with energy or environmental missions.

VIII. Technical Assistance and Other Requirements

FTA's Office of Planning and Environment staff is available to discuss and clarify expectations regarding these efforts before applicants submit proposals. Proposals will be reviewed and ranked based on the criteria in this notice by FTA headquarters staff in consultation with the appropriate FTA regional office (see Appendix A). Highly qualified proposals will be considered for inclusion in a national list that represents the highest and best use of the available funding. The FTA Administrator will determine the final selection and amount of funding for each study. Selected studies will be announced in Fall 2010. FTA will publish the list of all selected studies and funding levels in the Federal Register.

All proposals must be submitted to FTA electronically through the GRANTS.GOVAPPLY function. Applicants will receive two confirmation e-mails. The first will confirm that the application was received and a second will confirm within 24-48 hours whether the application was validated or rejected by the system. Registering with GRANTS.GOV is a one-time process; however, processing delays may occur and it can take up to several weeks for first-time registrants to receive confirmation and a user password. Therefore, applicants should start the registration process as early as possible to prevent delays that may preclude submitting an application by the deadline specified. Proposals will not be accepted after the relevant due date; delayed registration is not an acceptable reason for extensions. Further, applicants are urged to submit their application at least 72 hours prior to the due date of the application to allow time to receive the validation message and to correct any problems that may have caused a rejection notification.

If applicants experience unforeseen GRANTS.GOV technical issues beyond their control that prevent the submission of their application by the deadline, the applicant must contact FTA staff at Kenneth.Cervenka@dot.gov within 24 hours after the deadline and request approval to submit the application. At that time, FTA staff will require the applicant to e-mail the complete grant application, their DUNS number, and provide a GRANTS.GOV Help Desk tracking number(s). After FTA staff reviews all of the information submitted as well as contacts the GRANTS.GOV Help Desk to validate the technical issues reported, FTA staff will contact the applicant to either approve or deny its request to submit a late application. If the reported technical issues cannot be validated, the application will be rejected as untimely.

To ensure a fair competition for limited discretionary funds, the following conditions are not valid reasons to permit late submissions: (1) Failure to complete the registration process before the deadline date; (2) failure to follow GRANTS.GOV instructions on how to register and apply as posted on its Web site; (3) failure to follow all of the instructions in the funding availability notice; and (4) technical issues experienced with the applicant's computer or information technology (IT) environment.

Issued in Washington, DC, this 24th day of May, 2010.
Peter Rogoff,
Administrator.

Appendix A—FTA Regional and Metropolitan Offices

Richard H. Doyle, Regional Administrator, Region 1—Boston, Kendall Square 55 Broadway, Suite 920, Cambridge, MA 02142-1093, Tel. 617-494-2055 | Robert C. Patrick, Regional Administrator, Region 6-Ft. Worth, 819 Taylor Street, Room 8A36, Ft. Worth, TX 76102, Tel. 817-978-0550.
States served: Connecticut, Maine, Massachusetts, New Hampshire, Rhode Island, and Vermont | States served: Arkansas, Louisiana, Oklahoma, New Mexico and Texas.
Brigid Hynes-Cherin, Regional Administrator, Region 2—New York, One Bowling Green, Room 429, New York, NY 10004-1415,Tel. 212-668-2170 | Mokhtee Ahmad, Regional Administrator, Region 7—Kansas City, MO, 901 Locust Street, Room 404, Kansas City, MO 64106,Tel. 816-329-3920.
States served: New Jersey, New York | States served: Iowa, Kansas, Missouri, and Nebraska.
New York Metropolitan Office, Region 2—New York, One Bowling Green, Room 428, New York, NY 10004-1415, Tel. 212-668-2202
Letitia Thompson, Regional Administrator, Region 3—Philadelphia, 1760 Market Street, Suite 500, Philadelphia, PA 19103-4124, Tel. 215-656-7100 | Terry Rosapep, Regional Administrator, Region 8—Denver, 12300 West Dakota Ave., Suite 310, Lakewood, CO 80228-2583, Tel. 720-963-3300.
States served: Delaware, Maryland, Pennsylvania, Virginia, West Virginia, and District of Columbia | States served: Colorado, Montana, North Dakota, South Dakota, Utah, and Wyoming.
Philadelphia Metropolitan Office, Region 3—Philadelphia, 1760 Market Street, Suite 500, Philadelphia, PA 19103-4124, Tel. 215-656-7070
Washington, DC Metropolitan Office, 1990 K Street, NW, Room 510, Washington, DC 20006, Tel. 202-219-3562
Yvette Taylor, Regional Administrator, Region 4—Atlanta, 230 Peachtreet Street, NW., Suite 800, Atlanta, GA 30303, Tel. 404-865-5600 | Leslie T. Rogers, Regional Administrator, Region 9—San Francisco, 201 Mission Street, Room 1650, San Francisco, CA 94105-1926,Tel. 415-744-3133.
States served: Alabama, Florida, Georgia, Kentucky, Mississippi, North Carolina, Puerto Rico, South Carolina, Tennessee, and Virgin Islands | States served: American Samoa, Arizona, California, Guam, Hawaii, Nevada, and the Northern Mariana Islands.
| Los Angeles Metropolitan Office, Region 9—Los Angeles, 888 S. Figueroa Street, Suite 1850, Los Angeles, CA 90017-1850, Tel. 213-202-3952.
Marisol Simon, Regional Administrator, Region 5—Chicago, 200 West Adams Street, Suite 320, Chicago, IL 60606, Tel. 312-353-2789 | Rick Krochalis, Regional Administrator, Region 10—Seattle, Jackson Federal Building, 915 Second Avenue, Suite 3142, Seattle, WA 98174-1002, Tel. 206-220-7954.
States served: Illinois, Indiana, Michigan, Minnesota, Ohio, and Wisconsin | States served: Alaska, Idaho, Oregon, and Washington.
Chicago Metropolitan Office, Region 5—Chicago, 200 West Adams Street, Suite 320, Chicago, IL 60606, Tel. 312-353-2789

[FR Doc. 2010-12950 Filed 5-27-10; 8:45 am]

BILLING CODE 4910-57-P